DEPARTMENT OF COMMERCE

National Oceanic and Atmospheric Administration

[RTID 0648-XE511]

Marine Mammals; File No. 28286

AGENCY: National Marine Fisheries Service (NMFS), National Oceanic and Atmospheric Administration (NOAA), Commerce.

ACTION: Notice; receipt of application.

SUMMARY: Notice is hereby given that SeaWorld LLC, 6240 Sea Harbor Drive, Orlando, FL 32821 (Responsible Party: Chris Dold, DVM), has applied in due form for a permit to conduct research and enhancement activities on one stranded, non-releasable beluga whale (Delphinapterus leucas) from the endangered Cook Inlet distinct population segment (DPS).

DATES: Written comments must be received on or before January 31, 2025.

ADDRESSES: The application and related documents are available for review by selecting “Records Open for Public Comment” from the “Features” box on the Applications and Permits for Protected Species home page, https://apps.nmfs.noaa.gov, and then selecting File No. 28286 from the list of available applications. These documents are also available upon written request via email to NMFS.Pr1Comments@noaa.gov.

Written comments on this application should be submitted via email to NMFS.Pr1Comments@noaa.gov. Please include File No. 28286 in the subject line of the email comment.

Those individuals requesting a public hearing should submit a written request via email to NMFS.Pr1Comments@noaa.gov. The request should set forth the specific reasons why a hearing on this application would be appropriate.

FOR FURTHER INFORMATION CONTACT: Courtney Smith, Ph.D., or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

The applicant proposes to conduct research on and provide long-term care for one male beluga whale (NOA0010477/“Tyonek”) from the depleted and endangered Cook Inlet DPS. This whale stranded as a neonate (estimated date of birth: September 1, 2017), and was rescued and rehabilitated by the Alaska marine mammal stranding network under the authority of the NMFS Marine Mammal Health and Stranding Response Program. NMFS determined him to be non-releasable and placed Tyonek with SeaWorld of Texas where he has been maintained for research and enhancement purposes since March 18, 2018.

Proposed research activities for this beluga whale include behavioral observations, underwater photography/videography, and active acoustic sonar imaging. The proposed enhancement activities include continued daily husbandry care (feeding, training, monitoring growth [measurements, weight, ultrasound]); veterinary care (exams and biological sampling including but not limited to blood, breath exhalate, oral swabs, skin scrapes, gastric fluids, urine, feces; and treatments as warranted); reproductive health assessment (testicular ultrasound); behavioral observations; and enrichment.

Tyonek would be placed on public display incidental to the proposed research and enhancement activities but would not be used in interactive programs with the public or trained for performance. Tyonek would be included in public educational presentations would address the endangered status and current threats to the Cook Inlet DPS and may include demonstrations of trained husbandry and enrichment behaviors as well as natural behaviors. Tyonek may be transported to another SeaWorld facility in consultation with NMFS, if deemed necessary for socialization or husbandry purposes. The permit is requested for a 5-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 11, 2024.
Julia M. Harrison,
Chief, Permits and Conservation Division, Office of Protected Resources, National Marine Fisheries Service.

[FR Doc. 2024-29618 Filed 12-16-24; 8:45 am]

BILLING CODE 3510-22-P